DEPARTMENT OF ENERGY

Federal Energy Regulatory Commission

Combined Notice of Filings #1

Take notice that the Commission received the following electric corporate filings:

Docket Numbers: EC24-16-000.

Applicants: EGP Stillwater Solar, LLC, EGP Stillwater Solar PV II, LLC.

Description: Joint Application for Authorization Under Section 203 of the Federal Power Act of EGP Stillwater Solar, LLC, et al.

Filed Date: 11/7/23.

Accession Number: 20231107-5157.

Comment Date: 5 p.m. ET 11/28/23.

Take notice that the Commission received the following Complaints and Compliance filings in EL Dockets:

Docket Numbers: EL24-12-000.

Applicants: Independent Market Monitor for PJM v. PJM Interconnection, L.L.C.

Description: Complaint of Independent Market Monitor for PJM v. PJM Interconnection, L.L.C.

Filed Date: 11/7/23.

Accession Number: 20231107-5098.

Comment Date: 5 p.m. ET 11/27/23.

Take notice that the Commission received the following electric rate filings:

Docket Numbers: ER14-41-009; ER14-42-009; ER16-498-008; ER16-499-008; ER16-500-008; ER16-2277-002; ER16-2289-003; ER18-1174-003; ER20-2448-004; ER21-133-004; ER21-736-005; ER21-1962-005; ER21-2634-003; ER22-2784-002.

Applicants: MN8 Energy Marketing LLC, Solar Star Lost Hills, LLC, Mulberry BESS LLC, RE Slate 1 LLC, HDSI, LLC, American Kings Solar, LLC, Imperial Valley Solar 2, LLC, Golden Fields Solar I, LLC, Solar Star California XLI, LLC, RE Mustang 4 LLC, RE Mustang 3 LLC, RE Mustang LLC, RE Rosamond Two LLC, RE Rosamond One LLC.

Description: Notice of Non-Material Change in Status of RE Rosamond One LLC, et al.

Filed Date: 11/1/23.

Accession Number: 20231101-5288.

Comment Date: 5 p.m. ET 11/22/23.

Docket Numbers: ER23-2887-001.

Applicants: Arizona Public Service Company.

Description: Tariff Amendment: Rate Schedule No. 265, Amendment No. 4 to be effective 11/18/2023.

Filed Date: 11/8/23.

Accession Number: 20231108-5062.

Comment Date: 5 p.m. ET 11/20/23.

Docket Numbers: ER24-264-000.

Applicants: DesertLink, LLC.

Description: Errata to October 31, 2023, tariff filing of DesertLink, LLC.

Filed Date: 11/6/23.

Accession Number: 20231106-5175.

Comment Date: 5 p.m. ET 11/20/23.

Docket Numbers: ER24-359-000.

Applicants: Crow Creek Solar, LLC.

Description: Baseline eTariff Filing: Crow Creek Solar, LLC Application for Market-Based Rates to be effective 1/7/2024.

Filed Date: 11/7/23.

Accession Number: 20231107-5134.

Comment Date: 5 p.m. ET 11/28/23.

Docket Numbers: ER24-360-000.

Applicants: Keystone Appalachian Transmission Company.

Description: Baseline eTariff Filing: 2023-11-07 KATCo Certificate of Concurrence—Baseline Rate Schedule Filing to be effective 11/7/2023.

Filed Date: 11/7/23.

Accession Number: 20231107-5138.

Comment Date: 5 p.m. ET 11/28/23.

Docket Numbers: ER24-362-000.

Applicants: ISO New England Inc., New England Power Pool Participants Committee.

Description: ISO New England Inc. and New England Power Pool filing of Installed Capacity Requirements, Hydro-Quebec Interconnection Capability Credits and Related Values for Forward Capacity Auction 18, 2027-2028 Capacity Commitment Period.

Filed Date: 11/7/23.

Accession Number: 20231107-5164.

Comment Date: 5 p.m. ET 11/28/23.

Docket Numbers: ER24-363-000.

Applicants: Bronco Plains Wind, LLC.

Description: Baseline eTariff Filing: Bronco Plains Wind I & Bronco Plains Wind II—Co-Tenancy SFA to be effective 11/9/2023.

Filed Date: 11/8/23.

Accession Number: 20231108-5103.

Comment Date: 5 p.m. ET 11/29/23.

Docket Numbers: ER24-364-000.

Applicants: Niagara Mohawk Power Corporation.

Description: Notice of Cancellation of the Interconnection Agreement between Niagara Mohawk and Northbrook Lyons Falls LLC.

Filed Date: 11/7/23.

Accession Number: 20231107-5165.

Comment Date: 5 p.m. ET 11/28/23.

Docket Numbers: ER24-365-000.

Applicants: Bronco Plains Wind II, LLC.

Description: Baseline eTariff Filing: Letter of Concurrence to Co-Tenancy SFA with Bronco Plains Wind to be effective 11/9/2023.

Filed Date: 11/8/23.

Accession Number: 20231108-5133.

Comment Date: 5 p.m. ET 11/29/23.

Docket Numbers: ER24-366-000.

Applicants: Sentinel Energy Center, LLC.

Description: Baseline eTariff Filing: Black Start Agreement Between CAISO and Sentinel to be effective 1/8/2024.

Filed Date: 11/8/23.

Accession Number: 20231108-5138.

Comment Date: 5 p.m. ET 11/29/23.

Take notice that the Commission received the following public utility holding company filings:

Docket Numbers: PH24-3-000.

Applicants: CMS Energy Corporation.

Description: CMS Energy Corporation submits FERC 65-B Notice of Change in Fact to Waiver Notification.

Filed Date: 11/6/23.

Accession Number: 20231106-5174.

Comment Date: 5 p.m. ET 11/27/23.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: November 8, 2023.
Debbie-Anne A. Reese,
Deputy Secretary.

[FR Doc. 2023-25195 Filed 11-14-23; 8:45 am]

BILLING CODE 6717-01-P